DEPARTMENT OF TRANSPORTATION

Federal Aviation Administration

14 CFR Part 39

[Docket No. 2000-NM-04-AD; Amendment 39-11961; AD 2000-22-14]

RIN 2120-AA64

Airworthiness Directives; McDonnell Douglas Model DC-9-10, -20, -30, -40, and -50 Series Airplanes and C-9 (Military) Airplanes

AGENCY: Federal Aviation Administration, DOT.

ACTION: Final rule.

SUMMARY: This amendment supersedes an existing airworthiness directive (AD), applicable to certain McDonnell Douglas Model DC-9-10, -20, -30, -40, and -50 series airplanes, that currently requires repetitive radiographic and ultrasonic or eddy current inspections, and modification of the upper cap of the front spar of the left and right engine pylons, if necessary. This amendment requires new, improved x-ray and eddy current inspections to detect cracks of the upper cap of the front spar of the left and right engine pylons, and repetitive inspections or corrective actions, if necessary. This amendment also requires modification of the subject area, which constitutes terminating action for the repetitive inspection requirements. This amendment is prompted by additional reports of fatigue cracking in the subject area of these airplanes. The actions specified by this AD are intended to prevent failure of the upper cap of the front spar of the engine pylons due to fatigue cracking, and consequent reduced structural integrity of the airplane.

DATES: Effective December 13, 2000.

The incorporation by reference of certain publications listed in the regulations is approved by the Director of the Federal Register as of December 13, 2000.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION: A proposal to amend part 39 of the Federal Aviation Regulations (14 CFR part 39) by superseding AD 77-14-19, amendment 39-2971, which is applicable to certain McDonnell Douglas Model DC-9-10, -20, -30, -40, and -50 series airplanes and C-9 (military) airplanes, was published in the Federal Register on July 5, 2000 (65 FR 41385). The action proposed to continue to require radiographic and ultrasonic or eddy current inspections. The action also proposed to require new, improved x-ray and eddy current inspections to detect cracks of the upper cap of the front spar of the left and right engine pylons, and repetitive inspections or corrective actions, if necessary.

Comments

Interested persons have been afforded an opportunity to participate in the making of this amendment. Due consideration has been given to the comments received.

Compliance Time

One commenter has no objection to the proposed AD. However, the commenter requests that the compliance time of 3,600 flight hours specified in paragraph (b) of the proposed AD be extended to at least 3,860 flight hours. The commenter states that such an extension would allow operators to accomplish the required inspections during regularly scheduled maintenance and to avoid special routing of airplanes to a maintenance facility.

The FAA does not concur. In developing an appropriate compliance time for this action, the FAA considered the safety implications and normal maintenance schedules for timely accomplishment of the inspections. In consideration of these items, as well as the additional reports of fatigue cracking in the subject area of the upper cap of the front spar of the left and right engine pylons, the FAA has determined that prior to the accumulation of 8,000 total flight hours, or within 3,600 flight hours after the effective date of this AD, whichever occurs later, represents an appropriate interval of time allowable wherein the inspections can be accomplished during scheduled maintenance intervals for the majority of affected operators, and an acceptable level of safety can be maintained.

Delete Paragraph (f) of the Proposed AD

One commenter states that paragraph (f) of the proposed AD is misleading, because it discusses the terminating action as it relates to AD 96-10-11, amendment 39-9618 (61 FR 24675, May 16, 1996), but does not address the repetitive inspections. Paragraph (g) of AD 96-10-11 excludes the actions specified in McDonnell Douglas Service Bulletin 54-30, Revision 4, dated March 25, 1991. Another commenter points out that the requirements related to McDonnell Douglas Service Bulletin 54-30, Revision 4, of AD 96-10-11 have been superseded.

From these comments, the FAA infers that the commenters are requesting that paragraph (f) of the proposed AD be deleted. The FAA concurs. The FAA has reviewed the requirements of AD 96-10-11 and determined that McDonnell Douglas Service Bulletin 54-30, Revision 4, dated March 25, 1991, is not required by that AD. Paragraph (a) of AD 77-14-19, which is retained in this AD, references Douglas Service Bulletin 54-30, dated January 19, 1977, as the appropriate source of service information for accomplishment of the inspection requirements. Note 2 of this AD references later revisions of that service bulletin that are considered acceptable for compliance with the inspections required by paragraph (a) of this AD. Accomplishment of the requirements of paragraph (e) of this AD constitutes terminating action for the requirements of this AD. Therefore, the FAA finds that paragraph (f) of the proposed AD is not necessary. The FAA has revised the final rule accordingly.

Conclusion

After careful review of the available data, including the comments noted above, the FAA has determined that air safety and the public interest require the adoption of the rule with the change previously described. The FAA has determined that this change will neither increase the economic burden on any operator nor increase the scope of the AD.

Cost Impact

There are approximately 809 Model DC-9-10, -20, -30, -40, and -50 series airplanes and C-9 (military) airplanes of the affected design in the worldwide fleet. The FAA estimates that 572 airplanes of U.S. registry will be affected by this AD.

The actions that are currently required by AD 77-14-19, and retained in this AD, take approximately 12 work hours per airplane to accomplish, at an average labor rate of $60 per work hour. Based on these figures, the cost impact of the currently required actions on U.S. operators is estimated to be $411,840, or $720 per airplane, per inspection cycle.

The new inspection that is required in this AD action will take approximately 12 work hours per airplane to accomplish, at an average labor rate of $60 per work hour.

Based on these figures, the cost impact of this inspection required by this AD on U.S. operators is estimated to be $411,840, or $720 per airplane, per inspection cycle.

The new modification that is required in this AD action will take approximately 110 work hours per airplane to accomplish, at an average labor rate of $60 per work hour. Required parts will cost approximately $30,496 per airplane. Based on these figures, the cost impact of the modification required by this AD on U.S. operators is estimated to be $21,218,912, or $37,096 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-2971, and by adding a new airworthiness directive (AD), amendment 39-11961, to read as follows:

2000-22-14 McDonnell Douglas: Amendment 39-11961. Docket 2000-NM-04-AD. Supersedes AD 77-14-19, Amendment 39-2971.

Applicability: Model DC-9-10, -20, -30, -40, and -50 series airplanes and C-9 (military) airplanes; as listed in McDonnell Douglas Service Bulletin DC9-54-030, Revision 06, dated November 11, 1999; certificated in any category; except for those airplanes on which Special Change Notification 1269A, dated August 11, 1965, or Service Rework Drawing SR09540004, Change “E,” dated September 21, 1992, Change “F,” dated April 19, 1995, Change “G,” dated May 6, 1997, or Change “H,” dated July 12, 1997, has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent failure of the front spar attachment and upper cap of the engine pylons due to fatigue cracking, and consequent reduced structural integrity of the airplane, accomplish the following:

Repetitive Inspections

(a) Prior to the accumulation of 9,800 total flight hours, or within the next 1,800 flight hours after August 23, 1977 (the effective date of AD 77-14-19, amendment 39-2971), whichever occurs later, unless accomplished previously within the last 1,800 flight hours, accomplish the radiographic and ultrasonic or eddy current inspections in accordance with the instructions in Douglas Service Bulletin 54-30, dated January 19, 1977. Repeat the inspection thereafter at intervals not to exceed 3,600 flight hours. For those operators who have conducted only the radiographic inspections in accordance with Douglas All Operators Letter AOL 9-835, dated October 30, 1974, perform the ultrasonic or eddy current inspections, and thereafter, the radiographic and ultrasonic or eddy current inspection in accordance with the requirements of this AD, as applicable.

Note 2: Inspections accomplished prior to the effective date of this AD in accordance with McDonnell Douglas Service Bulletin 54-30, Revision 1, dated June 29, 1977, Revision 2, dated October 27, 1978, Revision 3, dated April 30, 1986, or Revision 4, dated March 25, 1991; or McDonnell Douglas Service Bulletin DC9-54-030, Revision 05, dated August 26, 1999, or Revision 06, dated November 11, 1999; are considered acceptable for compliance with the inspections required by paragraph (a) of this AD.

Initial Inspections and Follow-On/Corrective Action

(b) For airplanes on which the modification specified in paragraph (e) of this AD has not been accomplished: Prior to the accumulation of 8,000 total flight hours or within 3,600 flight hours after the effective date of this AD, whichever occurs later, perform x-ray and eddy current inspections to detect cracks of the upper cap of the front spar of the left and right engine pylons, in accordance with McDonnell Douglas Service Bulletin DC9-54-030, Revision 06, dated November 11, 1999. Accomplishment of these inspections constitutes terminating action for the repetitive inspection requirements of paragraph (a) of this AD.

No Crack Detected: Repetitive Inspections

(c) If no crack is detected during any inspection required by paragraph (a) or (b) of this AD, repeat the inspections thereafter at intervals not to exceed 3,600 flight hours until the modification required by paragraph (e) of this AD is accomplished.

Any Crack Detected: Modification

(d) If any crack is detected during any inspection required by paragraph (a) or (b) of this AD, prior to further flight, accomplish the modification specified in paragraph (e) of this AD.

Terminating Modification

(e) Except as provided by paragraph (d) of this AD, prior to the accumulation of 100,000 total landings, or within 6 months after the effective date of this AD, whichever occurs later, modify the upper cap of the front spar of the left and right engine pylons in accordance with McDonnell Douglas Service Bulletin DC9-54-030, Revision 06, dated November 11, 1999. Accomplishment of this modification constitutes terminating action for the requirements of this AD.

Note 3: Accomplishment of the modification of the upper cap of the front spar of the left and right engine pylons prior to the effective date of this AD in accordance with Douglas Service Bulletin 54-30, Revision 4, dated March 25, 1991, or McDonnell Douglas Service Bulletin DC9-54-030, Revision 5, dated August 26, 1999; is considered acceptable for compliance with the modification specified in paragraph (e) of this AD.

Alternative Methods of Compliance

(f) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Incorporation by Reference

(h) The actions specified in paragraphs (b) and (e) of this AD shall be done in accordance with McDonnell Douglas Service Bulletin DC9-54-030, Revision 06, dated November 11, 1999. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(i) This amendment becomes effective on December 13, 2000.

Issued in Renton, Washington, on October 30, 2000.
Donald L. Riggin,
Acting Manager, Transport Airplane Directorate, Aircraft Certification Service.

[FR Doc. 00-28234 Filed 11-7-00; 8:45 am]

BILLING CODE 4910-13-P